CHEMICAL SAFETY AND HAZARD INVESTIGATION BOARD

Sunshine Act Meetings

TIME AND DATE:

Thursday, October 27, 2022, 2:00 p.m. ET (2 hours)

Thursday, January 26, 2023, 2:00 p.m. ET (2 hours)

Thursday, April 27, 2023, 2:00 p.m. ET (2 hours)

Thursday, July 27, 2023, 2:00 p.m. ET (2 hours)

PLACE: The meetings will be held virtually via ZOOM. Links are below and will be available at: www.csb.gov.

October 27, 2022: https://www.zoomgov.com/j/1604597489?pwd=UHp1Q0k4TUNBeDRRZ2ZOQUl3c3lzQT09

January 26, 2023: https://www.zoomgov.com/j/1605505000?pwd=Yyt4aXhQRmJ5Mm1xME5uSnltcEtVdz09

April 27, 2023: https://www.zoomgov.com/j/1613057790?pwd=QUp6aFdEQThIZUF1MFhXM3ZiSlppUT09

July 27, 2023: https://www.zoomgov.com/j/1609291492?pwd=VVM4QXVxU3lkSE83SUl5RE12Ui9jUT09

STATUS: Open to the public.

MATTERS TO BE CONSIDERED: The Chemical Safety and Hazard Investigation Board (CSB) will convene public meetings on October 27, 2022; January 26, 2023; April 27, 2023; and, July 27, 2023, at 2:00 p.m. ET. These meetings serve to fulfill the CSB's requirement to hold a minimum of four public meetings for Fiscal Year 2023 pursuant to 40 CFR 1600.5(c). The Board will review the CSB's progress in meeting its mission and as appropriate highlight safety products newly released through investigations and safety recommendations.

CONTACT PERSON FOR FURTHER INFORMATION: Hillary Cohen, Communications Manager, at public@csb.gov or (202) 446-8094. Further information about these public meetings can be found on the CSB website at: www.csb.gov.

ADDITIONAL INFORMATION:

Background: The CSB is an independent federal agency charged with investigating incidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Participation: The meetings are free and open to the public. These meetings will only be available via ZOOM. Close captions (CC) will be provided. At the close of each meeting, there will be an opportunity for public comment. To submit public comments for the record please email the agency at public@csb.gov.

Dated: September 9, 2022.
Tamara Qureshi,
Assistant General Counsel, Chemical Safety and Hazard Investigation Board.

[FR Doc. 2022-19932 Filed 9-12-22; 11:15 am]

BILLING CODE 6350-01-P